OFFICE OF PERSONNEL MANAGEMENT

Submission for OMB Review; Comment Request for a New Information Collection: General Population Rental Equivalency Survey

AGENCY: Office of Personnel Management.

ACTION: Notice.

SUMMARY: Pursuant to the Paperwork Reduction Act of 1995 (Pub. L. 104-13, May 22, 1995), the Office of Personnel Management (OPM) has submitted to the Office of Management and Budget a request for a review of a new information collection. OPM plans to conduct a General Population Rental Equivalency Survey (GPRES) on a one-time basis to collect information on actual and estimated rents and rental characteristics from homeowners and renters in Alaska, Hawaii, Guam, Puerto Rico, the U.S. Virgin Islands, and the Washington, DC, area.

OPM will use this information to determine whether (1) differences between homeowner rent estimates and rental rates for comparable housing vary among the nonforeign cost-of-living allowance (COLA) areas and the Washington, DC, area; (2) rents vary among areas based on how long renters live in their rental units; and (3) rental data collected in GPRES differ on average from rental data that OPM collects in the COLA surveys. OPM regulations, adopted pursuant to the stipulation of settlement in Caraballo v. United States, No. 1997-0027 (D.V.I.), August 17, 2000, require the survey of rents and rental equivalence (homeowner estimates of the rental value of their homes).

OPM will collect information from approximately 5,000 to 8,000 respondents and estimates the total time per respondent will be 8 minutes, for a total burden of 670 to 1070 hours.

For copies of this proposal, contact Mary Beth Smith-Toomey on (202) 606-8358, fax: (202) 418-3251, or e-mail: MaryBeth.Smith-Toomey@opm.gov. Please include a mailing address with your request.

DATES: Comments must be received on or before May 17, 2004.

ADDRESSES: Send or deliver comments to:

• Donald J. Winstead, Deputy Associate Director for Pay and Performance Policy, Office of Personnel Management, Room 7H31, 1900 E Street NW., Washington, DC 20415-8200; fax: (202) 606-4264; or e-mail: cola@opm.gov; and

• Joseph F. Lackey, OPM Desk Officer, Office of Information and Regulatory Affairs, Office of Management and Budget, New Executive Office Building, NW., Room 10235, Washington, DC 20503.

FOR FURTHER INFORMATION CONTACT: Donald L. Paquin, (202) 606-2838.

U.S. Office of Personnel Management.
Kay Coles James,
Director.

[FR Doc. 04-8662 Filed 4-15-04; 8:45 am]

BILLING CODE 6325-39-M